DEPARTMENT OF LABOR

Mine Safety and Health Administration

Fee Adjustments for Testing, Evaluation, and Approval of Mining Products

AGENCY: Mine Safety and Health Administration (MSHA), Labor.

ACTION: Notice of fee adjustments.

SUMMARY: This notice revises our (MSHA Approval and Certification Center (A&CC)) user fees. Fees compensate us for the costs that we incur for testing, evaluating, and approving certain products for use in underground mines. The 2003 fees are based on our actual expenses for fiscal year 2002. The fees reflect changes both in our approval processing operations and in the costs to process approval actions.

DATES: This fee schedule is effective from January 1, 2003, through December 31, 2003.

FOR FURTHER INFORMATION CONTACT: Steven J. Luzik, Chief, Approval and Certification Center (A&CC), 304-547-2029 or 304-547-0400.

SUPPLEMENTARY INFORMATION:

Background

On May 8, 1987 (52 FR 17506), MSHA published a final rule, 30 CFR part 5—Fees for Testing, Evaluation, and Approval of Mining Products. The rule established specific procedures for calculating, administering, and revising user fees. We have revised our fee schedule for 2003 in accordance with the procedures of that rule. This new fee schedule is included below. For approval applications postmarked before January 1, 2003, we will continue to calculate fees under the previous (2002) fee schedule, published on December 28, 2001.

Fee Computation

In general, MSHA computed the 2003 fees based on fiscal year 2002 data. We calculated a weighted-average, direct cost for all the services provided during fiscal year 2002 in the processing of requests for testing, evaluation, and approval of certain products for use in underground mines. From this cost, we calculated a single hourly rate to apply uniformly across all of the product approval categories during 2003.

Dated: December 26, 2002.
John R. Caylor,
Deputy Assistant Secretary of Labor for Mine Safety and Health.

Fee Schedule Effective January 1, 2003
[Based on FY 2002 data]
Action title | Hourly rate
Fees for Testing, Evaluation, and Approval of all Mining Products¹ | $61
Retesting for Approval as a Result of Post-Approval Product Audit | 61
30 CFR Part 15—Explosives Testing
Permissibility Tests for Explosives:
Weigh-in | $462
Physical Exam: First size | 325
Chemical Analysis | 1,977
Air Gap—Minimum Product Firing Temperature | 460
Air Gap—Room Temperature | 352
Pendulum Friction Test | 163
Detonation Rate | 352
Gallery Test 7 | 7,436
Gallery Test 8 | 5,533
Toxic Gases (Large Chamber) | 805
Permissibility Tests for Sheathed Explosives:
Physical Examination | $128
Chemical Analysis | 1,044
Gallery Test 9 | 1,944
Gallery Test 10 | 1,944
Gallery Test 11 | 1,944
Gallery Test 12 | 1,944
Drop Test | 648
Temperature Effects/Detonation | 672
Toxic Gases | 580
¹ Full approval fee consists of evaluation cost plus applicable test costs.

Note: When the nature of the product requires that we test and evaluate it at a location other than our premises, you must reimburse us for the traveling, subsistence, and incidental expenses of our representative in accordance with standardized government travel regulations. This reimbursement is in addition to the fees charged for evaluation and testing.

[FR Doc. 02-33020 Filed 12-30-02; 8:45 am]

BILLING CODE 4510-43-P